NATIONAL AERONAUTICS AND SPACE ADMINISTRATION

48 CFR Parts 1801, 1811, 1823, 1851, and 1852

Government-Owned Contractor-Operated Vehicle Fleet Management and Reporting

AGENCY: Office of Procurement, Contract Management Division, National Aeronautics and Space Administration (NASA).

ACTION: Final rule.

SUMMARY: This rule adopts as final, without change, the interim rule published in the Federal Register (68 FR 43333-43334) on July 22, 2003. This final rule amends the NASA Federal Acquisition Regulation Supplement (NFS) to require contractors to collect data and report on usage of government-owned contractor-operated vehicles, including Interagency Fleet Management System (IFMS) vehicles.

EFFECTIVE DATE: February 24, 2004.

FOR FURTHER INFORMATION: Patrick Flynn, NASA, Office of Procurement, Contract Management Division (Code HK); (202) 358-0460; e-mail: patrick.flynn@nasa.gov.

SUPPLEMENTARY INFORMATION:

A. Background

In Executive Order 13149, “Greening the Government through Federal Fleet and Transportation Efficiency”, section 505 requires Federal agencies to ensure that all government-owned contractor-operated vehicles comply with all applicable goals and other requirements of the order. Section 302(c) requires agencies to collect data and report on performance in meeting the goals of the order, in accordance with requirements and guidance from the Department of Energy. In July 2000, the Department of Energy prepared the Guidance Document for Federal Agencies, as required by Executive Order 13149. Section 2-3 requires agencies to report data on government-owned motor vehicle usage, using DOE's Federal Automotive Statistical Tool (FAST). Information required for FAST reporting must be obtained from contractors who have been authorized to obtain vehicles and related services pursuant to FAR paragraph 11.101(b)(1). NASA published an interim rule in the Federal Register at 68 FR 43333-43334 on July 22, 2003, providing procedures for FAST reporting.

No public comments were received. The interim rule is converted to a final rule without change. This is not a significant regulatory action, and therefore, was not subject to review under section 6(b) of Executive Order 12866, Regulatory Planning and Review, dated September 30, 1993. This final rule is not a major rule under 5 U.S.C. 804.

B. Regulatory Flexibility Act

NASA certifies that this final rule will not have a significant economic impact on a substantial number of small businesses within the meaning of the Regulatory Flexibility Act (5 U.S.C. 601 et seq.) because it clarifies existing property reporting policies and procedures contractors must follow when accounting for reporting assets.

C. Paperwork Reduction Act

The Paperwork Reduction Act (Pub. L. 104-13) applies because the changes contain recordkeeping or information collection requirements. The Office of Management and Budget approved this reporting requirement under OMB control number 2700-0106.

List of Subjects in 48 CFR Part 1801, 1811, 1823, 1851, and 1852

Government procurement.

Tom Luedtke,
Assistant Administrator for Procurement.

Interim Rule Adopted as Final Without Change

Accordingly, NASA adopts the interim rule amending 48 CFR parts 1801, 1811, 1823, 1851, and 1852, which was published in the Federal Register on July 22, 2003 (68 FR 43333-43334), as a final rule without change.

[FR Doc. 04-3990 Filed 2-23-04; 8:45 am]

BILLING CODE 7510-01-P